DEPARTMENT OF LABOR

Employment and Training Administration

[TA-W-38,000]

W.P. Industries, South Gate, CA; Notice of Termination of Investigation

Pursuant to section 221 of the Trade Act of 1974, an investigation was initiated on August 21, 2000, in response to a petition filed on the same date on behalf of workers at W. P. Industries, South Gate, California.

The petitioning group of workers is subject to an ongoing investigation for which a determination has not yet been issued (TA-W-37,867). Consequently, further investigation in this case would serve no purpose, and the investigation has been terminated.

Signed in Washington, DC, this 24th day of August, 2000.
Edward A. Tomchick,
Director, Division of Trade Adjustment Assistance.

[FR Doc. 00-23506 Filed 9-12-00; 8:45 am]

BILLING CODE 4510-30-M